DEPARTMENT OF COMMERCE

National Oceanic and Atmospheric Administration

[I.D. 042304E]

Marine Mammals; File Nos. 42-1642, 482-1653, and 1026-1671

AGENCY: National Marine Fisheries Service (NMFS), National Oceanic and Atmospheric Administration (NOAA), Commerce.

ACTION: Issuance of permit amendments.

SUMMARY: Notice is hereby given that the following applicants have been issued amendments to their existing scientific research permits to study marine mammals:

Permit No. 42-1642-02: Mystic Aquarium, 55 Coogan Blvd., Mystic, CT 06355 (Dr. Lisa Mazarro, Principal Investigator);

Permit No. 482-1653-01: James Gilbert, Ph.D., University of Maine, Department of Wildlife Ecology, 210 Nutting Hall, Orono, Maine 04469; and

Permit No. 1026-1671-00: Belinda L. Rubinstein, New England Aquarium, Central Wharf, Boston, MA 02110.

ADDRESSES: The amendments and related documents are available for review upon written request or by appointment in the following office(s):

Permits, Conservation and Education Division, Office of Protected Resources, NMFS, 1315 East-West Highway, Room 13705, Silver Spring, MD 20910; phone (301)713-2289; fax (301)713-0376; and

Northeast Region, NMFS, One Blackburn Drive, Gloucester, MA 01930-2298; phone (978)281-9200; fax (978)281-9371.

FOR FURTHER INFORMATION CONTACT: Amy Sloan or Ruth Johnson, (301)713-2289.

SUPPLEMENTARY INFORMATION: On February 24, 2004, notice was published in the Federal Register (69 FR 8386) that amendments of the above-named permits had been requested by the above-named individuals and organization. The requested amendments have been granted under the authority of the Marine Mammal Protection Act of 1972, as amended (16 U.S.C. 1361 et seq.), the Regulations Governing the Taking and Importing of Marine Mammals (50 CFR part 216), the Endangered Species Act (16 U.S.C. 1531 et seq.), and the regulations governing endangered and threatened fish and wildlife (50 CFR parts 222-226).

Permit No. 42-1642-02, as amended, authorizes the permit holder (Mystic Aquarium) to collect, receive, import, and export blood, milk, and other soft parts from all non-listed and certain listed marine mammals under NMFS jurisdiction in order to: (1) Study metabolic clearance rates of vitamins A and E in captive Steller sea lions (Eumetopias jubatus); (2) establish the vitamin A and E status of free-ranging Steller sea lions; (3) determine the metabolic requirements for these vitamins; and (4) study the disease hemochromatosis (an excessive accumulation of iron in tissues) and conduct general marine mammal health research, including Brucella and immune and nervous system studies.

Permit No. 482-1653-01, as amended, authorizes the permit holder (James Gilbert) to capture, mark, sex, measure, blood sample, radio tag, VHF tag, biopsy, monitor heart rate, determine blood volume, and monitor via aerial survey harbor seals (Phoca vitulina) in order to study seal depredations at Atlantic salmon aquaculture farms in New England, population structure and foraging ecology, and behavioral and physiological development of diving in seal pups.

Permit No. 1026-1671-00, as amended, authorizes the permit holder (Belinda Rubinstein) to capture, tag, sample (including tooth extraction, blubber biopsy, sample lesions, blood and milk collection, oral and anal swabs, urine and feces), take rectal temperatures and use a pulse oxymeter to monitor animals' conditions during procedures, ultrasound for blubber thickness measurements, and release solitary animals of five pinniped species including harbor seal, harp seal (Phoca groenlandica), gray seal (Halichoerus grypus), hooded seal (Cystophora cristata), and ringed seal (Phoca hispida) in the wild and in rehabilitation facilities. Samples may be exported and re-imported for analyses. The purposes of the research are to study habitat utilization using satellite telemetry and flipper tagging, determine stock association, and monitor health of phocids along the east coast of the U.S., from Maine to Virginia.

Dated: April 28, 2004.
Stephen L. Leathery,
Chief, Permits, Conservation and Education Division, Office of Protected Resources, National Marine Fisheries Service.

[FR Doc. 04-10074 Filed 5-3-04; 8:45 am]

BILLING CODE 3510-22-S